NUCLEAR REGULATORY COMMISSION

10 CFR Part 72

[NRC-2014-0233]

RIN 3150-AJ47

List of Approved Spent Fuel Storage Casks: Holtec International HI-STORM 100 Cask System, Certificate of Compliance No. 1014, Amendment No. 8, Revision No. 1

AGENCY: Nuclear Regulatory Commission.

ACTION: Direct final rule; withdrawal.

SUMMARY: The U.S. Nuclear Regulatory Commission (NRC) is withdrawing a direct final rule that would have amended the NRC's spent fuel storage regulations by revising the Holtec International HI-STORM 100 Cask System listing within the “List of approved spent fuel storage casks” to add Amendment No. 8, Revision No. 1. This rule would have superseded Amendment No. 8 (effective May 2, 2012, and corrected on November 16, 2012), to the Certificate of Compliance (CoC) No. 1014. The NRC is taking this action because it has received at least one significant adverse comment in response to a companion proposed rule that was concurrently published with the direct final rule.

DATES: Effective April 20, 2015, the NRC withdraws the direct final rule published at 80 FR 6430 on February 5, 2015.

ADDRESSES: Please refer to Docket ID NRC-2014-0233 when contacting the NRC about the availability of information for this action. You may obtain publicly-available information related to this action by any of the following methods:

• Federal Rulemaking Web site: Go to http://www.regulations.gov and search for Docket ID NRC-2014-0233. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Gregory R. Trussell, Office of Nuclear Material Safety and Safeguards, U.S. Nuclear Regulatory Commission, Washington, DC 20555-0001; telephone: 301-415-6445; email: Gregory.Trussell@nrc.gov.

SUPPLEMENTARY INFORMATION: On February 5, 2015 (80 FR 6430), the NRC published in the Federal Register a direct final rule amending its regulations in part 72 of Title 10 of the Code of Federal Regulations to amend the NRC's spent fuel storage regulations by revising the Holtec International HI-STORM 100 Cask System listing within the “List of approved spent fuel storage casks” to add Amendment No. 8, Revision No. 1, which would have superseded Amendment No. 8 (effective May 2, 2012, and corrected on November 16, 2012), to the Certificate of Compliance (CoC) No. 1014. The direct final rule was to become effective on April 21, 2015. The NRC also concurrently published a companion proposed rule on February 5, 2015 (80 FR 6466).

In the February 5, 2015, proposed rule, the NRC stated that if any significant adverse comments were received, then the NRC would withdraw the direct final rule by publishing a document in the Federal Register. As a result, the direct final rule would not take effect. The NRC received 16 comments from private citizens. The comments are available at www.regulations.gov by searching on Docket ID NRC-2014-0233. The NRC determined that at least one of the comments is significant and adverse as defined in Section II, “Procedural Background,” of the direct final rule, because the comment raises an issue serious enough to warrant a substantive response to clarify or complete the record. Therefore, the NRC is withdrawing the direct final rule.

As stated in the February 5, 2015, proposed rule, the NRC will address the comments in a subsequent final rule. The NRC will not initiate a second comment period on this action.

Dated at Rockville, Maryland, this 10th day of April, 2015.
For the Nuclear Regulatory Commission.
Mark A. Satorius,
Executive Director for Operations.

[FR Doc. 2015-09023 Filed 4-17-15; 8:45 am]

BILLING CODE 7590-01-P